DEPARTMENT OF AGRICULTURE

Forest Service

Notice of New Fee Site; Federal Lands Recreation Enhancement Act, (Title VIII, Pub. L. 108-447)

AGENCY: Bridger-Teton National Forest, USDA Forest Service.

ACTION: Notice of new fee site.

SUMMARY: The Bridger-Teton National Forest is planning to charge an $80 fee for the overnight rental of Green River Lakes Lodge. This facility has not been available for recreation use prior to this date. Rentals of other historic guard stations on the Bridger-Teton National Forest have shown that people appreciate and enjoy the availability of historic rental cabins. Funds from the rental will be used for the continued operation and maintenance of Green River Lakes Lodge.

DATES: Green River Lakes Lodge will become available for recreation rental October 2007.

ADDRESSES: Forest Supervisor, Bridger-Teton National Forest, P.O. Box 1888/340 N. Cache, Jackson, WY 83001.

FOR FURTHER INFORMATION CONTACT: Cindy Stein, Natural Resources Specialist, 307-367-5717.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Bridger-Teton National Forest currently has numerous other cabin rentals. These rentals are often fully booked throughout their rental season. A business analysis of the Green River Lakes Lodge has shown that people desire having this sort of recreation experience on the Bridger-Teton National Forest. A market analysis indicates that the $80/per night fee is both reasonable and acceptable for this sort of unique recreation experience.

People wanting to rent Green River Lakes Lodge will need to do so through the National Recreation Reservation Service, at http://www.reserveusa.com or by calling 1-877-444-6777. The National Recreation Reservation Service charges a $9 fee for reservations.

Dated: April 12, 2007.
Kniffy Hamilton,
Bridger-Teton National Forest Supervisor.

[FR Doc. 07-1971 Filed 4-19-07; 8:45 am]

BILLING CODE 3410-11-M